OVERSEAS PRIVATE INVESTMENT CORPORATION

Sunshine Act Cancellation Notice—OPIC March 11, 2015 Public Hearing

OPIC's Sunshine Act notice of its Public Hearing in Conjunction with each Board meeting was published in the Federal Register (Volume 80, Number 31, Pages 8368 and 8369) on February 17, 2015. No requests were received to provide testimony or submit written statements for the record; therefore, OPIC's public hearing scheduled for 2 p.m., March 11, 2015 in conjunction with OPIC's March 19, 2015 Board of Directors meeting has been cancelled.

Contact Person for Information: Information on the hearing cancellation may be obtained from Connie M. Downs at (202) 336-8438, or via email at Connie.Downs@opic.gov.

Dated: March 11, 2015.
Connie M. Downs,
OPIC Corporate Secretary.

[FR Doc. 2015-05965 Filed 3-11-15; 4:15 pm]

BILLING CODE 3210-01-P